DEPARTMENT OF HEALTH AND HUMAN SERVICES

Centers for Disease Control and Prevention

[Program Announcement 04012]

HIV Prevention Projects; Notice of Availability of Funds Amendment

A notice announcing the availability of fiscal year (FY) 2004 funds for cooperative agreements for HIV prevention projects was published in the Federal Register July 10, 2003, Volume 68, Number 132, pages 41138-41147. The notice is amended as follows:

On page 41140, first column, Section “F. Application Content,” first paragraph, insert the following, “Beginning October 1, 2003, applicants will be required to have a Dun and Bradstreet (DUNS) number to apply for a grant or cooperative agreement from the Federal government. The DUNS number is a nine-digit identification number, which uniquely identifies business entities. Obtaining a DUNS number is easy and there is no charge. Proactively obtaining a DUNS number at the current time will facilitate the receipt and acceptance of applications after September 2003. To obtain a DUNS number, access the following Web site: www.dunandbradstreet.com or call 1-866-705-5711.

Dated: July 21, 2003.
Sandra R. Manning,
Director, Procurement and Grants Office, Centers for Disease Control and Prevention.

[FR Doc. 03-18954 Filed 7-24-03; 8:45 am]

BILLING CODE 4163-18-P